DEPARTMENT OF COMMERCE

National Oceanic and Atmospheric Administration

RIN 0648-XG455

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Mackerel, Squid, and Butterfish Advisory Panel and Committee will hold a public meeting via webinar.

DATES: The meeting will be held on Monday September 24, 2018, from 10 a.m. to 12 p.m. See SUPPLEMENTARY INFORMATION for agenda details.

ADDRESSES: The meeting will be held via webinar, which can be accessed at: http://mafmc.adobeconnect.com/chubapcom2/. Participants may also connect via telephone by calling 1-800-832-0736 and entering room number 5068871.

Council address: Mid-Atlantic Fishery Management Council, 800 N. State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council's Mackerel, Squid, and Butterfish Advisory Panel and Committee will meet on Monday, September 24, 2018 (see DATES and ADDRESSES). The purpose of this meeting is to review and provide comments on a draft public hearing document for the Mid-Atlantic Fishery Management Council's Chub Mackerel Amendment. This amendment will consider adding Atlantic chub mackerel (Scomber colias) to the Atlantic Mackerel, Squid, and Butterfish Fishery Management Plan. The amendment will consider potential catch limits, accountability measures, and other conservation and management measures required for stocks “in the fishery.”

Background documents can be found on the Council's website (www.mafmc.org).

Special Accommodations

These meetings are physically accessible to people with disabilities. Requests for sign language interpretation or other auxiliary aid should be directed to M. Jan Saunders, (302) 526-5251, at least 5 days prior to the meeting date.

Dated: August 31, 2018.
Tracey L. Thompson,
Acting Deputy Director, Office of Sustainable Fisheries, National Marine Fisheries Service.

[FR Doc. 2018-19359 Filed 9-5-18; 8:45 am]

BILLING CODE 3510-22-P